DEPARTMENT OF ENERGY

Federal Energy Regulatory Commission

Combined Notice of Filings # 1

January 10, 2008.

Take notice that the Commission received the following electric corporate filings:

Docket Numbers: EC08-33-000.

Applicants: Startrans IO, L.L.C.

Description: Startrans IO, LLC's request for approvals necessary for purchase of certain transmission interests currently held by the City of Vernon, CA in the Mead-Adelanto Project.

Filed Date: 01/04/2008.

Accession Number: 20080107-0162.

Comment Date: 5 p.m. Eastern Time on Friday, January 25, 2008.

Docket Numbers: EC08-34-000.

Applicants: FPLE, Forney, L.P., Cobisa-Forney Power Company, Inc, FPL Energy Tyler Texas LP, LLC.

Description: FPLE Forney LP et al. submits an application requesting authorization for the purchase of Cobisa-Forney Power Co, Inc's five percent limited partnership interest.

Filed Date: 01/04/2008.

Accession Number: 20080107-0191.

Comment Date: 5 p.m. Eastern Time on Friday, January 25, 2008.

Take notice that the Commission received the following electric rate filings:

Docket Numbers: ER97-3561-004; ER98-3771-001; ER00-1737-010; ER00-2839-005; ER04-834-004; ER96-2869-012; ER02-1342-003; ER97-30-005; ER99-1432-009; ER99-1695-009; ER01-2763-001; ER00-3621-008; ER01-468-007; ER05-34-004; ER05-35-004; ER05-36-004; ER05-37-004; ER04-318-003; ER04-249-004; ER02-23-010; ER07-1306-003.

Applicants: Virginia Electric & Power Company; State Line Energy, L.L.C.; Kincaid Generation, L.L.C.; Elwood Energy, LLC; Dominion Nuclear Connecticut, Inc.; Dominion Energy Marketing, Inc.; Dominion Energy New England, Inc.; Dominion Energy Salem Harbor, LLC; Dominion Energy Brayton Point, LLC; Dominion Energy Manchester Street, Inc.; Dominion Energy Kewaunee, Inc.; Dominion Retail, Inc.; Fairless Energy, LLC; NedPower Mount Storm, LLC.

Description: Virginia Electric and Power Company submits its Fourth Revised Volume 4 of the Amended and Restated Market-Based Sales Tariff.

Filed Date: 01/08/2008.

Accession Number: 20080109-0064.

Comment Date: 5 p.m. Eastern Time on Tuesday, January 29, 2008.

Docket Numbers: ER02-2458-011.

Applicants: Wolverine Power Supply Cooperative, Inc.; Midwest Independent Transmission System Operator, Inc.

Description: Refund Report in Midwest Independent Transmission System Operator, Inc.

Filed Date: 01/08/2008.

Accession Number: 20080108-5171.

Comment Date: 5 p.m. Eastern Time on Tuesday, January 29, 2008.

Docket Numbers: ER03-736-007; ER04-1153-003.

Applicants: CAM Energy Products, LP; Cam Energy Trading, LLC.

Description: CAM Energy Trading LLC and CAM Energy Products LP submits a notice of a non-material change in status.

Filed Date: 01/04/2008.

Accession Number: 20080108-0036.

Comment Date: 5 p.m. Eastern Time on Friday, January 25, 2008.

Docket Numbers: ER06-1455-002.

Applicants: Westar Energy, Inc.

Description: Westar Energy Inc submits its First Revised Sheet 31 and 32 of its FERC Electric Tariff, Original Volume 8, Participation Power Agreement with Mid-Kansas Electric Company LLC.

Filed Date: 01/07/2008.

Accession Number: 20080108-0039.

Comment Date: 5 p.m. Eastern Time on Monday, January 28, 2008.

Docket Numbers: ER08-233-001.

Applicants: CAM Energy Products, LP.

Description: CAM Energy Products, LP submits a Notice of Cancellation of its Market-Based Rate Tariff, to be effective 11/20/07.

Filed Date: 01/04/2008.

Accession Number: 20080108-0045.

Comment Date: 5 p.m. Eastern Time on Friday, January 25, 2008.

Docket Numbers: ER08-274-002.

Applicants: Citadel Energy Strategies, LLC.

Description: Citadel Energy Strategies, LLC submits its compliance filing, which consist of amendments to its Rate Schedule FERC 1 required by Order 697.

Filed Date: 01/07/2008.

Accession Number: 20080108-0040.

Comment Date: 5 p.m. Eastern Time on Monday, January 28, 2008.

Docket Numbers: ER08-391-000.

Applicants: Nevada Power Company.

Description: Nevada Power Co submits a Notice of Cancellation of an Agreement for Long-Term Firm Point-to-Point Transmission Service with Calpine Corporation.

Filed Date: 12/28/2007.

Accession Number: 20080107-0066.

Comment Date: 5 p.m. Eastern Time on Friday, January 18, 2008.

Docket Numbers: ER08-392-000.

Applicants: PJM Interconnection, L.L.C.

Description: PJM Interconnection LLC submits an executed interconnection service agreement among PJM, Grand Ridge Energy LLC et al.

Filed Date: 12/28/2007.

Accession Number: 20080107-0065.

Comment Date: 5 p.m. Eastern Time on Friday, January 18, 2008.

Docket Numbers: ER08-395-000.

Applicants: Electric Energy, Inc.

Description: Electric Energy, Inc submits Modification 20 to a Power Contract dated 9/12/87 with the U.S. Department of Energy designated as contract DEAC05-760R01312.

Filed Date: 12/28/2007.

Accession Number: 20080107-0063.

Comment Date: 5 p.m. Eastern Time on Friday, January 18, 2008.

Docket Numbers: ER08-411-000.

Applicants: Tiger Natural Gas, Inc.

Description: Tiger Natural Gas Inc submits its Petition for Acceptance of Initial Tariff, Waivers and Blanket Authority designated as FERC Electric Tariff, Original Volume 1.

Filed Date: 01/04/2008.

Accession Number: 20080107-0043.

Comment Date: 5 p.m. Eastern Time on Friday, January 25, 2008.

Docket Numbers: ER08-412-000.

Applicants: Commonwealth Edison Company.

Description: Application of Commonwealth Edison Co and Exelon Generation Co, LLC under Section 205 of the Federal Power Act.

Filed Date: 01/04/2008.

Accession Number: 20080108-0093.

Comment Date: 5 p.m. Eastern Time on Friday, January 25, 2008.

Docket Numbers: ER08-413-000.

Applicants: Startrans IO, L.L.C.

Description: Startrans IO, LLC submits supporting materials and tariff provisions to establish its transmission revenue requirement and Transmission Owner Tariff as a Participating Transmission Owner etc.

Filed Date: 01/04/2008.

Accession Number: 20080108-0046.

Comment Date: 5 p.m. Eastern Time on Friday, January 25, 2008.

Docket Numbers: ER08-414-000.

Applicants: New York State Reliability Council.

Description: New York State Reliability Council LLC advises FERC that NYSRC has revised the Installed Capacity Requirement for the New York Control Area for the period on 5/1/08 and ending 4/30/09.

Filed Date: 01/04/2008.

Accession Number: 20080108-0032.

Comment Date: 5 p.m. Eastern Time on Friday, January 25, 2008.

Docket Numbers: ER08-415-000.

Applicants: Potomac Electric Power Company.

Description: Potomac Electric Power Company submits an executed Construction Agreement with Mid-Atlantic LLC, effective 2/4/08.

Filed Date: 01/04/2008.

Accession Number: 20080108-0033.

Comment Date: 5 p.m. Eastern Time on Friday, January 25, 2008.

Docket Numbers: ER08-416-000.

Applicants: Midwest Independent Transmission System.

Description: Midwest Independent Transmission System Operator Inc submits its proposed revisions to its Open Access Transmission and Energy Markets Tariff etc.

Filed Date: 01/04/2008.

Accession Number: 20080108-0034.

Comment Date: 5 p.m. Eastern Time on Friday, January 25, 2008.

Docket Numbers: ER08-417-000.

Applicants: Wisconsin Public Service Corporation.

Description: Wisconsin Public Service Corporation submits an executed Spinning Reserve Services Agreement with Ameren Services Company, to become effective 1/5/08.

Filed Date: 01/04/2008.

Accession Number: 20080108-0035.

Comment Date: 5 p.m. Eastern Time on Friday, January 25, 2008.

Docket Numbers: ER08-418-000.

Applicants: Midwest Independent Transmission System.

Description: Midwest Independent Transmission System Operator, Inc submits an executed Amended Interconnection and Operating Agreement with Northern Iowa Windpower II, LLC et al..

Filed Date: 01/07/2008.

Accession Number: 20080108-0047.

Comment Date: 5 p.m. Eastern Time on Monday, January 28, 2008.

Docket Numbers: ER08-419-000.

Applicants: American Electric Power System Corp.

Description: American Electric Power Service Corp on behalf of Indiana Michigan Power submits an Interconnection Agreement with Commonwealth Edison Co.

Filed Date: 01/07/2008.

Accession Number: 20080108-0041.

Comment Date: 5 p.m. Eastern Time on Monday, January 28, 2008.

Docket Numbers: ER08-420-000.

Applicants: Xcel Energy Services Inc.

Description: Xcel Energy on behalf of Northern States Power Co submits a Revised and Restated Emergency-Type Service Agreement with East River Electric Power Cooperative.

Filed Date: 01/07/2008.

Accession Number: 20080108-0042.

Comment Date: 5 p.m. Eastern Time on Monday, January 28, 2008.

Docket Numbers: ER08-421-000.

Applicants: Xcel Energy Services Inc.

Description: Xcel Energy on behalf of Public Service Company of Colorado submits the First Revision to the Amended and Restated Agreement with Rocky Mountain Energy Center, LLC.

Filed Date: 01/07/2008.

Accession Number: 20080108-0043.

Comment Date: 5 p.m. Eastern Time on Monday, January 28, 2008.

Docket Numbers: ER08-422-000; ER08-423-000; ER08-424-000.

Applicants: Puget Sound Energy, Inc.

Description: Puget Sound Energy, Inc submits a Network Integration Transmission Service Agreement with Bonneville Power Administration etc.

Filed Date: 01/07/2008.

Accession Number: 20080108-0044.

Comment Date: 5 p.m. Eastern Time on Monday, January 28, 2008.

Docket Numbers: ER08-425-000.

Applicants: Energy Exchange Direct, LLC.

Description: Energy Exchange Direct LLC submits its Petition for Acceptance of Initial Tariff, Waivers and Blanket Authority designated to FERC's Electric Tariff, Original Volume 1.

Filed Date: 01/07/2008.

Accession Number: 20080108-0303.

Comment Date: 5 p.m. Eastern Time on Monday, January 28, 2008.

Docket Numbers: ER08-426-000.

Applicants: WSPP Inc.

Description: WSPP Inc submits its proposed revisions of its WSPP Agreement.

Filed Date: 01/07/2008.

Accession Number: 20080108-0304.

Comment Date: 5 p.m. Eastern Time on Monday, January 28, 2008.

Docket Numbers: ER08-427-000.

Applicants: New York Independent System Operator, Inc.

Description: New York Independent System Operator Inc et al. submits an unexecuted Small Generator Interconnection Agreement among NYISO, National Grid et al.

Filed Date: 01/07/2008.

Accession Number: 20080108-0305.

Comment Date: 5 p.m. Eastern Time on Monday, January 28, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-634 Filed 1-15-08; 8:45 am]

BILLING CODE 6717-01-P